DEPARTMENT OF THE INTERIOR

National Park Service

30-Day Notice of Submission of Study Package to Office of Management and Budget; Opportunity for Public Comment

AGENCY: Department of the Interior; National Park Service.

ACTION: Notice and request for comments.

SUMMARY: Under provisions of the Paperwork Reduction Act of 1995 and 5 CFR part 1320, Reporting and Recordkeeping Requirements, the National Park Service invites comments on a proposed new collection of information (1024-xxxx).

The OMB has up to 60 days to approve or disapprove the requested information collection, but may respond after 30 days. Therefore, to ensure maximum consideration, OMB should receive public comments within 30 days of the date on which this notice is published in the Federal Register.

The National Park Service published the 60-day Federal Register notice to solicit comments on this proposed information collection on Friday, September 2, 2005 on pages 52443-52444.

The National Park Service Volunteers-In-Parks (VIP) program (Pub. L. 91-357) is collecting information from volunteers in the form of a survey for the purposes of evaluating the program and its effectiveness.

DATES: Public comments on the proposed Information Collection Request (ICR) will be accepted for July 26, 2006.

ADDRESSES: You may submit comments directly to the Desk Officer for the Department of the Interior, (OMB #1024-xxxx) Office of Information and Regulatory Affairs, OMB, by fax at 202-395-6566, or by electronic mail at oira_docket@omb.eop.gov. Please also send a copy of your comments to Joy M. Pietschmann, National Park Service, Servicewide Volunteer Program Coordinator, 1849 C Street, NW., 2450, Washington, DC 20240, or e-mail: joy_pietschmann@nps.gov.

FOR FURTHER INFORMATION CONTACT: Joy M. Pietschmann, phone: 202-513-7141, fax: 202-371-6662, or at the address above. You are entitled to a copy of the entire ICR package free-of-charge.

There were no public comments received as a result of publishing in the Federal Register a 60-day Notice of Intention to Request Clearance of Information Collection for this survey. However, comments were solicited from the following professionals associated with volunteerism and volunteer administration:

Tom Benjamin, President, EASI (Environmental Alliance for Senior Involvement).

Betty Stallings, Volunteerism Consultant, BBS (Building Better Skills), Author of the 60-minute Module Series on volunteer management customized by the NPS for the VIP program.

Katie Campbell, Certified Volunteer Administrator, Volunteerism Consultant, and former Executive Director of AVA (Association of Volunteer Administration).

John Throop, Executive Director of AVA.

Robb Hampton, Director, NPLD (National Public Lands Day).

Gail Cunningham, Vice President, Managing Director, Great American Cleanup (Keep America Beautiful).

Nancy Macduff, Volunteerism Consultant, Macduff/Buff Associates.

Christopher Toppe, Senior Social Scientist, Points of Light Foundation.

Solicited comments from experts in the field of volunteerism indicate that the 60-day notice is clear and to the point. This assessment is long overdue and it can yield invaluable information that can help ensure the sustainability of volunteer involvement within the National Park Service. A wide range of variables is urged as part of the data collection. Long-term and short-term volunteers have different perspective and it's important to survey a wide variety of people. To address these points, the National Park Service will be surveying a completely random selection made from over 22,900 volunteer names collected servicewide and will be cutting the data by region work category, and volunteer program size. This will also address another's comment on the need to match the survey sample to the demographic sample of the current VIP program. A concern was also expressed about the volunteer survey being the only source of information contributing to this program assessment and that it is important to hear from those who are the recipients of the volunteers' efforts. The National Park Service has also surveyed its paid staff prior to this notice to gather this opinions of the volunteer program and its operation. Through its Social Science program, the National Park Service surveys its visitors and other customers regularly who also benefit from volunteer services. Additional comments include: The burden hour estimate seems reasonable and accurate. Utilizing both the survey and then subsequent focus groups will yield both qualitative and quantitative results. Utilizing electronic survey tools will ensure the highest possible response rate and will minimize staff time for tabulating the results. The addition of focus groups will provide additional information that may not be captured with a survey tool. This dual approach makes sense and is realistic in terms of staff resources. In response to the latter, the National Park Service will not be conducting the focus groups and interviews immediately after this information collection is complete but, rather, will seek approval and pursue that process at a latter time when additional funding is available.

SUPPLEMENTARY INFORMATION: Title: Volunteers-In-Parks Program Assessment.

Bureau Form Number: None.

OMB Number: 1024-xxxx.

Expiration Date: To be requested.

Type of Request: Request for new clearance.

Description of Need: This survey is needed to survey NPS volunteers to assess the Volunteers-In-Parks (VIP) program effectiveness. The NPS VIP program is authorized by the Volunteers in the Parks Act of 1969 as originally enacted was Public Law 91-357. Volunteering is an American tradition that over the years has made an immeasurable contribution to communities, organizations, and individuals throughout the country. Volunteers are vital to the success of the National Park Service. The Volunteers-In-Parks program can accept and use voluntary help and services from the public, in a way that is mutually beneficial to the NPS and the volunteer. In FY2005, 137,000 volunteers donated 5.2 million hours of service to their national parks at a value of $91.2 million. VIPs come from every state and many different countries to help preserve and protect America's natural and cultural heritage for the enjoyment of this and future generations. Over the past 35 years, this program has consistently grown to become one of the government's largest, most successful volunteer programs. Between FY2003 and 2004, the program experienced its biggest increase in history. The number of VIPs increased by 14% and the number of hours by 11%. In order to effectively manage the increasing trend of volunteerism in the National Park Serivce, it is imperative that the organization assesses its strengths and weaknesses and determines methods for improved efficiency. A servicewide volunteer program assessment has not been conducted to date. Both paid staff and volunteers will be surveyed during this process to collect information about the current status and needs of the program. Recommendations for improvements will be made based on the findings. This process will not only aid in creating a improved, streamlined program, but may also serve as a model for other Federal agencies.

Automated data collection: There will be an opportunity to provide this information electronically through a designated, secure Web site.

Description of respondents: National Park Service Volunteers-In-Parks.

Estimated average number of respondents: Approximately 8,966 respondents.

Estimated average burden hours per response: 2 minutes for everyone to open and consider taking the survey, 10 minutes for those taking the survey, 3 minutes to return/submit the completed survey, and 3 minutes for respondents to the follow-up telephone mini survey.

Frequency of response: 1 time per respondent.

Estimated annual reporting burden: 1,661 hours.

Dated: June 1, 2006.
Leonard E. Stowe,
NPS Information Collection Clearance Officer.

[FR Doc. 06-5659 Filed 6-23-06; 8:45 am]

BILLING CODE 4312-52-M